DEPARTMENT OF JUSTICE

Drug Enforcement Administration

Margaret Melinda Sprague, M.D.; Revocation of Registration

On September 8, 2004, the Deputy Assistant Administrator, Office of Diversion Control, Drug Enforcement Administration (DEA), issued an Order to Show Cause to Margaret Melinda Sprague, M.D. (Dr. Sprague) who was notified of an opportunity to show cause as to why DEA should not revoke her DEA Certificate of Registration BS1464089, pursuant to 21 U.S.C. 824(a)(3) and deny any pending applications under 21 U.S.C. 823(f), on the ground that she lacks State authority to handle controlled substances in the State of California. The Order to Show Cause also notified Dr. Sprague that should no request for a hearing be filed within 30 days, her hearing right would be deemed waived.

The Order to Show Cause was sent by certified mail to Dr. Sprague at her registered address in La Jolla, California. However that letter was unclaimed. It was then forwarded by the United States Postal Service to 7934 La Jolla Shores Drive, La Jolla, California 92037, an address Dr. Sprague had provided postal authorities as a forwarding address. She had also previously advised DEA investigators to use that address when sending correspondence related to her registration. However, the forwarded letter was also unclaimed and postal authorities returned it to DEA stamped “Notice Left—No Response.” Additional efforts by DEA investigators to locate Dr. Sprague's current address were also unsuccessful. DEA has not received a request for hearing or any other reply from Dr. Sprague or anyone purporting to represent her in this matter.

Therefore, the Deputy Administrator of DEA, finding that: (1) Thirty days having passed since the attempted deliveries of the order to Show Cause to the Registrant's address of record and her forwarding address; (2) reasonable and good faith efforts to locate her have been unsuccessful; and (3) no request for hearing having been received, concludes that Dr. Sprague is deemed to have waived her hearing right. See James E. Thomas, M.D., 70 FR 3564 (2005); Steven A. Barnes, M.D., 69 FR 51474 (2004); David W. Linder, 67 FR 12579 (2002). After considering material from the investigative file in this matter, the Deputy Administrator now enters her final order without a hearing pursuant to 21 CFR 1301.43(d) and (e) and 1301.46.

The Deputy Administrator finds that Dr. Sprague is currently registered with DEA as a practitioner authorized to handle controlled substances in Schedules II through V under Certificate of Registration BS1464089, expiring on February 28, 2006. According to information in the investigative file on December 3, 2003, the Medical Board of California (Board) issued an Order immediately suspending Dr. Sprague's Physician and Surgeon's Certificate. The suspension was based in part, on the Board's conclusion that Dr. Sprague was unable to safely practice medicine due to a mental or physical condition.

There is no evidence before the Deputy Administrator to rebut a finding that Dr. Sprague's California medical license has been suspended. Therefore, The Deputy Administrator finds Dr. Sprague is currently not authorized to practice medicine in the State of California. As a result, it is reasonable to infer that she is also without authorization to handle controlled substances in that State.

DEA does not have statutory authority under the Controlled substances Act to issue or maintain a registration if the applicant or registrant is without State authority to handle controlled substances in the State in which she conducts business. See 21 U.S.C. 802(21), 823(f) and 824(a)(3). This prerequisite has been consistently upheld. See Richard J. Clement, M.D., 68 FR 12103 (2003); Dominick A. Ricci, M.D., 58 FR 51104 (1993); Bobby Watts, M.D., 53 FR 11919 (1988).

Here, it is clear that Dr. Sprague's State medical license was suspended and there is no information before the Deputy Administrator which points to that suspension having been lifted or stayed. As a result, Dr. Sprague is not authorized to practice medicine or handle controlled substances in California, where she is registered with DEA. Therefore, she is not entitled to maintain that registration.

Accordingly, the Deputy Administrator of the Drug Enforcement Administration, pursuant to the authority vested in her by 21 U.S.C. 823 and 824 and 28 CFR 0.100(b) and 0.104, hereby orders that DEA Certificate of Registration, BS1464089, issued to Margaret Melinda Sprague, M.D., be, and it hereby is, revoked. The Deputy Administrator further orders that any pending applications for renewal or modification of the aforementioned registration be, and hereby are, denied. This order is effective April 14, 2005.

Dated: February 14, 2005.
Michele M. Leonhart,
Deputy Administrator.

[FR Doc. 05-5073 Filed 3-14-05; 8:45 am]

BILLING CODE 4410-09-M